DEPARTMENT OF THE INTERIOR

Bureau of Ocean Energy Management

Gulf of Mexico (GOM), Outer Continental Shelf (OCS), Western Planning Area (WPA), Oil and Gas Lease Sale for the 2007-2012 5-Year OCS Program

AGENCY: Bureau of Ocean Energy Management (BOEM), Interior.

ACTION: Notice of Availability (NOA).

SUMMARY: BOEM has prepared a ROD on an oil and gas lease sale tentatively scheduled for December 14, 2011 for WPA Lease Sale 218, which is the final WPA lease sale in the 2007-2012 5-Year OCS Program. The proposed sale is in the GOM WPA off the States of Texas and Louisiana. In preparing its decision, BOEM considered alternatives to the Proposed Action and the impacts as presented in the Final Supplemental Environmental Impact Statement (SEIS) and all comments received throughout the NEPA process. The Final SEIS updated the environmental and socioeconomic analyses for WPA Lease Sale 218, originally evaluated in the GOM OCS Oil and Gas Lease Sales: 2007-2012; WPA Sales 204, 207, 210, 215, and 218; Central Planning Area (CPA) Sales 205, 206, 208, 213, 216, and 222, Final EIS (OCS EIS/EA MMS 2007-018) (Multisale EIS), completed in April 2007 and updated the environmental and socioeconomic analyses for WPA Lease Sale 218 in the GOM OCS Oil and Gas Lease Sales: 2009-2012; CPA Sales 208, 213, 216, and 222; WPA Sales 210, 215, and 218; Final SEIS (OCS EIS/EA MMS 2008-041) (2009-2012 Supplemental EIS), completed in September 2008. BOEM has selected the proposed action, identified as the Agency's preferred alternative (Alternative A) in the Final SEIS, and will offer for lease all unleased blocks within the WPA for oil and gas operations, except whole and partial blocks within the boundary of the Flower Garden Banks National Marine Sanctuary and whole and partial blocks in the Western Gap buffer area.

SUPPLEMENTARY INFORMATION: On June 18, 2010, the Minerals Management Service (MMS) was renamed the Bureau of Ocean Energy Management, Regulation and Enforcement (BOEMRE). Effective October 1, 2011, BOEMRE was reorganized and separated into two separate bureaus, BOEM and the Bureau of Safety and Environmental Enforcement (BSEE). BOEM is responsible for managing development of the nation's offshore resources in an environmentally and economically responsible way. BOEM's functions include: leasing, plan administration, environmental studies, NEPA analysis, resource evaluation, economic analysis, and renewable energy. BSEE is responsible for enforcing safety and environmental regulations. BSEE functions include: All field operations including permitting and inspections, research, offshore regulatory programs, oil spill response, and training and environmental compliance.

BOEMRE developed the Final EIS for WPA Lease Sale 218 in order to consider new circumstances and information available since publication of the prior EIS's or arising from, among other things, the Deepwater Horizon event and spill. In this Final EIS, BOEMRE evaluated three alternatives:

Alternative A—The Proposed Action: This is the Agency's preferred alternative. This alternative would offer for lease all unleased blocks within the WPA for oil and gas operations, except whole and partial blocks within the boundary of the Flower Garden Banks National Marine Sanctuary and whole and partial blocks in the Western Gap buffer area. The WPA sale area encompasses about 28.7 million acres. Approximately 18.3 million ac (64 percent) of the WPA sale area is currently unleased. The estimated amount of resources projected to be developed as a result of the proposed WPA lease sale is 0.222-0.423 billion barrels of oil (BBO) and 1.495-2.647 trillion cubic feet (Tcf) of gas.

Alternative B—The Proposed Action Excluding the Unleased Blocks Near Biologically Sensitive Topographic Features: This alternative would offer for lease all unleased blocks in the WPA, as described for the proposed action (Alternative A), with the exception of any unleased blocks subject to the Topographic Features Stipulation.

Alternative C—No Action: This is the cancellation of the proposed WPA lease sale. The opportunity for development of the estimated 0.222-0.423 BBO and 1.495-2.647 Tcf of gas that could have resulted from the proposed WPA lease sale would be precluded or postponed. Any potential environmental impacts resulting from the proposed lease sale would not occur or would be postponed.

After careful consideration, BOEM has selected the proposed action, identified as the Agency's preferred alternative (Alternative A) in the Final SEIS. BOEM's selection of the preferred alternative reflects an orderly resource development with protection of the human, marine, and coastal environments while simultaneously ensuring that the public receives an equitable return for these resources and that free-market competition is maintained.

Record of Decision Availability: To obtain a single printed or CD-ROM copy of the ROD for WPA Lease Sale 218, you may contact the BOEM, GOM OCS Region, Public Information Office (MS 5034), 1201 Elmwood Park Boulevard, Room 250, New Orleans, Louisiana 70123-2394 (1-800-200-GULF). An electronic copy of the ROD is available at the BOEM's Internet Web site at http://www.gomr.boemre.gov/homepg/regulate/environ/nepa/nepaprocess.html.

FOR FURTHER INFORMATION CONTACT: For more information on the ROD, you may contact Mr. Gary D. Goeke, BOEM, GOM OCS Region, 1201 Elmwood Park Boulevard (MS 5410), New Orleans, Louisiana 70123-2394. You may also contact Mr. Goeke by telephone at (504) 736-3233.

Authority: This NOA is published pursuant to the regulations (40 CFR part 1506) implementing the provisions of the National Environmental Policy Act (NEPA) of 1969, as amended (42 U.S.C. 4321 et seq. (1988)).

Dated: November 8, 2011.
Tommy P. Beaudreau,
Director, Bureau of Ocean Energy Management.

[FR Doc. 2011-29343 Filed 11-10-11; 8:45 am]

BILLING CODE 4310-MR-P